ENVIRONMENTAL PROTECTION AGENCY

40 CFR Part 62

[Region 2 Docket No. PR11-267w, FRL-7610-4]

Approval and Promulgation of State Plans for Designated Facilities; Puerto Rico Removal of Direct Final Rule

AGENCY: Environmental Protection Agency (EPA).

ACTION: Removal of direct final rule.

SUMMARY: Due to receipt of an adverse comment, EPA is removing the direct final rule which approved the “State Plan” submitted by the Commonwealth of Puerto Rico to fulfill the requirements of sections 111(d)/129 of the Clean Air Act for Commercial and Industrial Solid Waste Incineration (CISWI) units. The direct final rule was published on October 31, 2003 (68 FR 62019). As stated in the direct final rule, if adverse comments were received by December 1, 2003, a timely withdrawal would be published in the Federal Register. EPA subsequently received an adverse comment. EPA will address the comments in a subsequent final action based upon the proposed action also published on October 31, 2003 (68 FR 62040). EPA will not institute a second comment period on this action.

DATES: This action is effective January 15, 2004.

FOR FURTHER INFORMATION CONTACT: Kirk Wieber, Air Programs Branch, Environmental Protection Agency, 290 Broadway, 25th Floor, New York, New York 10007-1866, (212) 637-3381 or at Wieber.Kirk@epa.gov.

List of Subjects in 40 CFR Part 62

Environmental protection, Air pollution control, Acid gases, Carbon monoxide, Commercial and industrial solid waste, Intergovernmental relations, Organics, Particulate matter, Reporting and recordkeeping requirements.

Dated: December 29, 2003.
Jane M. Kenny,
Regional Administrator, Region 2.

Part 62, chapter I, title 40 of the Code of Federal Regulations is amended as follows:

PART 62—[AMENDED]

1. The authority citation for part 62 continues to read as follows:

Authority: 42 U.S.C. 7401-7671q.

Subpart BBB—Puerto Rico

2. Subpart BBB is amended by removing § 62.13108 and the undesignated center heading.

[FR Doc. 04-892 Filed 1-14-04; 8:45 am]

BILLING CODE 6560-50-P